POSTAL SERVICE

International Product Change—Canada Post—United States Postal Service Contractual Bilateral Agreement for Inbound Competitive Services

AGENCY: Postal Service™.

ACTION: Notice.

SUMMARY: The Postal Service gives notice of filing a request with the Postal Regulatory Commission to add the Canada Post—United States Postal Service Contractual Bilateral Agreement for Inbound Competitive Services to the Competitive Products List pursuant to 39 U.S.C. 3642.

DATES: December 9, 2009.

FOR FURTHER INFORMATION CONTACT: Margaret M. Falwell, 703-292-3576.

SUPPLEMENTARY INFORMATION: The United States Postal Service® hereby gives notice that on November 25, 2009, it filed with the Postal Regulatory Commission a Request to Add Canada Post—United States Postal Service Contractual Bilateral Agreement for Inbound Competitive Services to the Competitive Product List, and Notice of Filing (Under Seal) the Enabling Governors' Decision and Agreement. Documents are available under Docket Nos. MC2010-14 and CP2010-13 on the Postal Regulatory Commission's Web site, http://www.prc.gov.

Neva R. Watson,
Attorney, Legislative.

[FR Doc. E9-29384 Filed 12-8-09; 8:45 am]

BILLING CODE P